DEPARTMENT OF ENERGY

Federal Energy Regulatory Commission

[Project No. 12667-031]

City of Hamilton, Ohio; American Municipal Power, Inc.; Notice of Application Accepted for Filing, Soliciting Motions To Intervene and Protests, Ready for Environmental Analysis, and Soliciting Comments, Recommendations, and Terms and Conditions

Take notice that the following hydroelectric application has been filed with the Commission and is available for public inspection:

a. Application Type: Amendment of license to change transmission line route.

b. Project No.: 12667-031.

c. Date Filed: November 30, 2011.

d. Applicant: City of Hamilton, Ohio and American Municipal Power, Inc.

e. Name of Project: Meldahl Hydroelectric Project.

f. Location: When constructed, the project will be located at the U.S. Army Corps of Engineers' Captain Anthony Meldahl locks and dam on the Ohio River, near the City of Augusta, Bracken County, Kentucky.

g. Filed Pursuant to: Federal Power Act, 16 U.S.C. 791(a)-825(r).

h. Applicant Contact: Debra Roby, Jennings, Strouss & Salmon, PLC, 1350 I Street NW., Suite 810, Washington, DC 20005-3305; telephone (202) 464-0539.

i. FERC Contact: Linda Stewart, telephone: (202) 502-6680, and email address: linda.stewart@ferc.gov.

j. Deadline for filing motions to intervene and protests, comments, recommendations, and terms and conditions is 30 days from the issuance of this notice; reply comments are due 55 days from the issuance date of this notice.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426. Please include the project number (P-12667-031) on any comments, motions, or recommendations filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The City of Hamilton, Ohio and American Municipal Power, Inc. (licensees) propose to change the transmission line route authorized in the June 25, 2008 Order Issuing Original License (Major Project). Instead of constructing an approximately 5-mile-long, 138-kilovolt (kV) transmission line connecting the powerhouse to a new switching station adjacent to East Kentucky Electric Cooperative, Inc.'s Boone-Spurlock transmission line as authorized in the license, the licensees propose to construct an approximately 3-mile-long, 138-kV transmission line connecting the powerhouse to a new switching station at the Zimmer-Spurlock transmission line in Clermont County, Ohio. The proposed transmission line route would extend from the powerhouse in Bracken County, Kentucky, span the Ohio River into Clermont County, Ohio, and then interconnect with the transmission grid inside the PJM regional transmission organization.

l. Locations of the Application: A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item (h) above.

You may also register online at http://www.ferc.gov/docs-filing/esubscription.asp to be notified via email of new filings and issuances related to this or other pending projects. For assistance, contact FERC Online Support.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “PROTEST”, “MOTION TO INTERVENE”, “COMMENTS,” “REPLY COMMENTS,” “RECOMMENDATIONS,” or “TERMS AND CONDITIONS;” (2) set forth in the heading the name of the applicant and the project number of the application to which the filing responds; (3) furnish the name, address, and telephone number of the person protesting or intervening; and (4) otherwise comply with the requirements of 18 CFR 385.2001 through 385.2005. All comments, recommendations or terms and conditions must set forth their evidentiary basis and otherwise comply with the requirements of 18 CFR 4.34(b). All comments, recommendations or terms and conditions should relate to project works which are the subject of the license amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: January 26, 2012.
Kimberly D. Bose,
Secretary.

[FR Doc. 2012-2384 Filed 2-2-12; 8:45 am]

BILLING CODE 6717-01-P